DEPARTMENT OF COMMERCE

International Trade Administration

[A-560-802]

Certain Preserved Mushrooms From Indonesia: Final Results of Antidumping Duty Administrative Review

Correction

In notice document 01-17626 beginning on page 36754 in the issue of Friday, July 13, 2001, make the following correction:

On page 36754, in the second column, the EFFECTVE DATE: “August 13, 2001” is corrected to read “July 13, 2001”.

[FR Doc. C1-17626 Filed 7-19-01; 8:45 am]

BILLING CODE 1505-01-D